DEPARTMENT OF STATE

[Public Notice: 11800]

Department of State FY 2020 Service Contract Inventory

ACTION: Notice of release of the Department of State's FY 2020 service contract inventory.

SUMMARY: Acting in compliance with Section 743 of Division C of the Consolidated Appropriations Act of 2010, the Department of State is publishing this notice to advise the public of the availability of the FY 2020 Service Contract Inventory. The FY 2020 Service Contract Inventory includes the FY 2020 Planned Analysis, and the FY 2019 Meaningful Analysis. The inventory was developed in accordance with guidance issued by the Office of Management and Budget (OMB), Office of Federal Procurement Policy (OFPP). The Department of State has posted its FY 2020 Service Contract Inventory at the following link: https://csm.state.gov/index2.html.

DATES: The inventory is available on the Department's website as of July 9, 2022.

FOR FURTHER INFORMATION CONTACT: Marlon D. Henry, Management and Program Analyst, A/EX/CSM, 202-485-7210, HenryMD@state.gov.

Marlon D. Henry,
Management and Program Analyst, Collaborative Strategy and Management Division, Bureau of Administration, Department of State.

[FR Doc. 2022-16319 Filed 7-28-22; 8:45 am]

BILLING CODE 4710-24-P